DEPARTMENT OF TRANSPORTATION

Federal Aviation Administration

14 CFR Part 39

[Docket No. FAA-2025-0757; Project Identifier AD-2025-00117-T; Amendment 39-23230; AD 2026-01-02]

RIN 2120-AA64

Airworthiness Directives; Gulfstream Aerospace Corporation Airplanes

AGENCY: Federal Aviation Administration (FAA), DOT.

ACTION: Final rule.

SUMMARY: The FAA is adopting a new airworthiness directive (AD) for all Gulfstream Aerospace Corporation Model GVI airplanes. This AD was prompted by a determination that new and more restrictive airworthiness limitations are necessary. This AD requires revising the existing maintenance or inspection program, as applicable, to incorporate new and more restrictive airworthiness limitations. The FAA is issuing this AD to address the unsafe condition on these products.

DATES: This AD is effective February 24, 2026.

The Director of the Federal Register approved the incorporation by reference of certain publications listed in this AD as of February 24, 2026.

ADDRESSES:

AD Docket: You may examine the AD docket at regulations.gov under Docket No. FAA-2025-0757; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For Gulfstream material identified in this AD, contact Gulfstream Aerospace Corporation, Technical Publications Dept., P.O. Box 2206, Savannah, GA 31402-2206; telephone 800-810-4853; email pubs@gulfstream.com; website gulfstream.com/en/customer-support.

• You may view this material at the FAA, Airworthiness Products Section, Operational Safety Branch, 2200 South 216th St., Des Moines, WA. For information on the availability of this material at the FAA, call 206-231-3195. It is also available at regulations.gov under Docket No. FAA-2025-0757.

FOR FURTHER INFORMATION CONTACT: Jeffrey Johnson, Aviation Safety Engineer, FAA, 1701 Columbia Avenue, College Park, GA 30337; phone: 404-474-5554; email: ecb-cos@faa.gov.

SUPPLEMENTARY INFORMATION:

Background

The FAA issued a notice of proposed rulemaking (NPRM) to amend 14 CFR part 39 by adding an AD that would apply to all Gulfstream Aerospace Corporation Model GVI airplanes. The NPRM was published in the Federal Register on May 19, 2025 (90 FR 21245). The NPRM was prompted by a determination that new and more restrictive airworthiness limitations are necessary. In the NPRM, the FAA proposed to revise the existing maintenance or inspection program, as applicable, to incorporate new and more restrictive airworthiness limitations. The FAA is issuing this AD to prevent failure of principal structural elements throughout the service life of each part. This condition, if not addressed, could compromise the structural integrity of the airplane.

Discussion of Final Airworthiness Directive

Comments

The FAA received a comment from an individual commentor who supported the NPRM without change.

The FAA received additional comments from Gulfstream Aerospace Corporation. The following presents the comments received on the NPRM and the FAA's response to each comment.

Request To Allow Use Later Aircraft Maintenance Manual (AMM) Revisions

Gulfstream requested that the FAA revise paragraph (g) of the proposed AD to allow incorporation of Section 05-10-10 of Gulfstream G650 Aircraft Maintenance Manual, Revision 25, dated May 15, 2025; and Gulfstream G650ER Aircraft Maintenance Manual, Revision 20, dated May 15, 2025. Gulfstream stated the proposed AD would require incorporating earlier AMM revisions, without accommodating these later AMM revisions. Gulfstream noted that the airworthiness limitations in Section 05-10-10 of the later AMM revisions are unchanged from the earlier revisions and still dated October 30, 2024. Gulfstream expressed concern that operators who have incorporated later AMM revisions would not be able to demonstrate compliance with the proposed AD unless they obtained an alternative method of compliance (AMOC). Gulfstream also stated that the proposed AD would require incorporating the entire AMM, whereas only the airworthiness limitations in Section 05-10-10 are necessary to address the unsafe condition.

The FAA agrees to revise paragraph (g) of this AD to clarify that using a later revision of Section 05-10-10 of the applicable AMM is acceptable for compliance with the requirements of paragraph (g) of this AD, provided that the information in the later revision is identical to that contained in Section 05-10-10, “Airworthiness Limitations,” Chapter 05, “Time Limits/Maintenance Checks,” Gulfstream G650 Aircraft Maintenance Manual, Revision 24, dated October 30, 2024; and Section 05-10-10, “Airworthiness Limitations,” Chapter 05, “Time Limits/Maintenance Checks,” Gulfstream G650ER Aircraft Maintenance Manual, Revision 19, dated October 30, 2024; as applicable. As long as the information in the later revision of the applicable AMM is identical, an operator can show compliance with those airworthiness limitations without having to obtain an AMOC.

The FAA disagrees with Gulfstream's interpretation that this AD mandates the entire AMM. The FAA notes that paragraph (g) of this AD requires incorporating the information in Section 05-10-10, “Airworthiness Limitations,” Chapter 05, “Time Limits/Maintenance Checks,” Gulfstream G650 Aircraft Maintenance Manual, Revision 24, dated October 30, 2024; and Section 05-10-10, “Airworthiness Limitations,” Chapter 05, “Time Limits/Maintenance Checks,” Gulfstream G650ER Aircraft Maintenance Manual, Revision 19, dated October 30, 2024; as applicable. Therefore, the FAA has not changed this AD in regard to this comment.

Request To Revise Background Paragraph

Gulfstream requested that the FAA revise the Background section of the proposed AD to specify Gulfstream revised the airworthiness limitations section (ALS) of the Gulfstream G650 and G650ER AMMs to add airplane serial numbers to the effectivity of the rear spar fitting principal structural element (PSE) and clarify safe life limit part numbers where “& Sub” was previously noted. Gulfstream stated that the Background description regarding errors in the previous revisions of the ALS is incorrect.

The FAA disagrees with the request. The term “error” is an accurate description of the need to revise the ALS of the AMMs. The FAA considers differences between the FAA-approved engineering data and the technical publications to be errors. The effectivity and the safe life limit part numbers were revised because the ALS of the AMMs did not match the FAA-approved engineering data. The FAA has not revised the AD in this regard.

Conclusion

The FAA reviewed the relevant data, considered any comments received, and determined that air safety requires adopting this AD as proposed. Accordingly, the FAA is issuing this AD to address the unsafe condition on these products. Except for minor editorial changes, and any other changes described previously, this AD is adopted as proposed in the NPRM. None of the changes will increase the economic burden on any operator.

Material Incorporated by Reference Under 1 CFR Part 51

The FAA reviewed Section 05-10-10, “Airworthiness Limitations,” Chapter 05, “Time Limits/Maintenance Checks,” Gulfstream G650 Aircraft Maintenance Manual, Revision 24, dated October 30, 2024; and Section 05-10-10, “Airworthiness Limitations,” Chapter 05, “Time Limits/Maintenance Checks,” Gulfstream G650ER Aircraft Maintenance Manual, Revision 19, dated October 30, 2024. This material specifies airworthiness limitations, which includes additional safe life limit part numbers and the addition of airplane serial numbers to the effectivity of certain PSEs. These documents are distinct because they apply to different airplane models.

This material is reasonably available because the interested parties have access to it through their normal course of business or by the means identified in the ADDRESSES section.

Costs of Compliance

The FAA estimates that this AD would affect 428 airplanes of U.S. registry. The FAA estimates the following costs to comply with this AD:

The FAA has determined that revising the existing maintenance or inspection program takes an average of 90 work-hours per operator, although the agency recognizes that this number may vary from operator to operator. Since operators incorporate maintenance or inspection program changes for their affected fleet(s), the FAA has determined that a per-operator estimate is more accurate than a per-airplane estimate. Therefore, the FAA estimates the average total cost per operator to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2026-01-02 Gulfstream Aerospace Corporation: Amendment 39-23230; Docket No. FAA-2025-0757; Project Identifier AD-2025-00117-T.

(a) Effective Date

This airworthiness directive (AD) is effective February 24, 2026.

(b) Affected ADs

None.

(c) Applicability

This AD applies to all Gulfstream Aerospace Corporation Model GVI airplanes, certificated in any category.

(d) Subject

Air Transport Association (ATA) of America Code 57, Wings.

(e) Unsafe Condition

This AD was prompted by a determination that new and more restrictive airworthiness limitations are necessary. The FAA is issuing this AD to prevent failure of principal structural elements throughout the service life of each part. This condition, if not addressed, could compromise the structural integrity of the airplane.

(f) Compliance

Comply with this AD within the compliance times specified, unless already done.

(g) Maintenance or Inspection Program Revision

Within 30 days after the effective date of this AD, revise the existing maintenance or inspection program, as applicable, to incorporate the information specified in Section 05-10-10, “Airworthiness Limitations,” Chapter 05, “Time Limits/Maintenance Checks,” Gulfstream G650 Aircraft Maintenance Manual, Revision 24, dated October 30, 2024; and Section 05-10-10, “Airworthiness Limitations,” Chapter 05, “Time Limits/Maintenance Checks,” Gulfstream G650ER Aircraft Maintenance Manual, Revision 19, dated October 30, 2024; as applicable. The initial compliance time for doing the tasks is at the time specified in Section 05-10-10, “Airworthiness Limitations,” Chapter 05, “Time Limits/Maintenance Checks,” Gulfstream G650 Aircraft Maintenance Manual, Revision 24, dated October 30, 2024; and Section 05-10-10, “Airworthiness Limitations,” Chapter 05, “Time Limits/Maintenance Checks,” Gulfstream G650ER Aircraft Maintenance Manual, Revision 19, dated October 30, 2024; as applicable, or within 30 days after the effective date of this AD, whichever occurs later. Using a later revision of Section 05-10-10 of the applicable AMM with information identical to that contained in Section 05-10-10, “Airworthiness Limitations,” Chapter 05, “Time Limits/Maintenance Checks,” Gulfstream G650 Aircraft Maintenance Manual, Revision 24, dated October 30, 2024; and Section 05-10-10, “Airworthiness Limitations,” Chapter 05, “Time Limits/Maintenance Checks,” Gulfstream G650ER Aircraft Maintenance Manual, Revision 19, dated October 30, 2024; as applicable, is acceptable for compliance with the requirements of this paragraph.

(h) No Alternative Actions or Intervals

After the existing maintenance or inspection program has been revised as required by paragraph (g) of this AD, no alternative actions (e.g., inspections) or intervals may be used unless the actions and intervals are approved as an alternative method of compliance (AMOC) in accordance with the procedures specified in paragraph (j) of this AD.

(i) Special Flight Permit

Special flight permits, as described in 14 CFR 39.23, are not allowed.

(j) Alternative Methods of Compliance (AMOCs)

The Manager, East Certification Branch, FAA, has the authority to approve AMOCs for this AD, if requested using the procedures found in 14 CFR 39.19. In accordance with 14 CFR 39.19, send your request to your principal inspector or responsible Flight Standards Office, as appropriate. If sending information directly to the manager of the East Certification Branch, send it to the attention of the person identified in paragraph (k) of this AD. Information may be emailed to: AMOC@faa.gov. Before using any approved AMOC, notify your appropriate principal inspector, or lacking a principal inspector, the manager of the responsible Flight Standards Office.

(k) Additional Information

For more information about this AD, contact Jeffrey Johnson, Aviation Safety Engineer, FAA, 1701 Columbia Avenue, College Park, GA 30337; phone: 404-474-5554; email: ecb-cos@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(i) Section 05-10-10, “Airworthiness Limitations,” Chapter 05, “Time Limits/Maintenance Checks,” Gulfstream G650 Aircraft Maintenance Manual, Revision 24, dated October 30, 2024.

(ii) Section 05-10-10, “Airworthiness Limitations,” Chapter 05, “Time Limits/Maintenance Checks,” Gulfstream G650ER Aircraft Maintenance Manual, Revision 19, dated October 30, 2024.

(3) For Gulfstream material identified in this AD, contact Gulfstream Aerospace Corporation, Technical Publications Dept., P.O. Box 2206, Savannah, GA 31402-2206; telephone 800-810-4853; email pubs@gulfstream.com; website gulfstream.com/en/customer-support.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on January 14, 2026.
Christopher R. Parker,
Acting Deputy Director, Compliance & Airworthiness Division, Aircraft Certification Service.

[FR Doc. 2026-01004 Filed 1-16-26; 8:45 am]

BILLING CODE 4910-13-P